DEPARTMENT OF JUSTICE

Notice of Proposed Settlement Agreement Under the Oil Pollution Act

On December 5, 2024, the Department of Justice approved a proposed Settlement Agreement among the United States, State of California, and settling defendant United Molasses, Inc. under the Oil Pollution Act, related to the Port of Richmond Terminal 4 site in Richmond, California. The Settlement Agreement requires the settling defendant to pay $650,000.00 to resolve a claim for damages for injuries to natural resources from alleged oil discharges from the site.

The publication of this notice opens a period for public comment on the Settlement Agreement. Comments should be addressed to the Assistant Attorney General, Environment and Natural Resources Division, and should refer to Settlement Agreement among the United States, State of California, and United Molasses, Inc., D.J. Ref. No. 90-5-1-1-12847. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined at and downloaded from this Justice Department website: https://www.justice.gov/enrd/consent-decrees. If you require assistance accessing the Consent Decree you may request assistance by email or by mail to the addresses provided above for submitting comments.

Scott Bauer,
Assistant Section Chief, Environmental Enforcement Section, Environment and Natural Resources Division.

[FR Doc. 2024-29046 Filed 12-10-24; 8:45 am]

BILLING CODE 4410-15-P